DEPARTMENT OF COMMERCE

Bureau of Industry and Security

15 CFR Part 748

[Docket No. 130521487-3487-01]

RIN 0694-AF92

Addition, Removals, and Revisions to the List of Validated End-Users in the People's Republic of China

AGENCY: Bureau of Industry and Security, Commerce.

ACTION: Final rule.

SUMMARY: In this rule, the Bureau of Industry and Security (BIS) amends the Export Administration Regulations (EAR) to improve the display and readability of the list of Validated End-Users (VEU) and their respective eligible items and destinations; revise the existing VEU listing for the People's Republic of China (PRC) to add one end-user, Shanghai Huahong Grace Semiconductor Manufacturing Corporation, Ltd. (HHGrace); remove two end-users, Grace Semiconductor Manufacturing Corporation (GSMC) and Shanghai Huahong NEC Electronics Company, Ltd. (HHNEC); and update the list of eligible items for CSMC Technologies Corporation (CSMC). Specifically, BIS amends Supplement No. 7 to part 748 of the EAR to remove GSMC and HHNEC as a result of the merger of the two companies to create HHGrace, which is being added as a VEU. With this rule, exports, reexports and transfers (in-country) of certain items to three facilities of HHGrace are now authorized under Authorization VEU. In addition, BIS is updating CSMC's list of eligible items in Supplement No. 7 to part 748. These actions are not being taken in response to activities of concern. Rather, the actions are being taken at the companies' request.

DATES: This rule is effective June 3, 2013.

FOR FURTHER INFORMATION CONTACT: Karen Nies-Vogel, Chair, End-User Review Committee, Bureau of Industry and Security, U.S. Department of Commerce, 14th Street & Pennsylvania Avenue NW., Washington, DC 20230; by telephone: (202) 482-5991, fax: (202) 482-3991, or email: ERC@bis.doc.gov.

SUPPLEMENTARY INFORMATION:

Background

Authorization Validated End-User

Validated End-Users (VEUs) are designated entities located in eligible destinations to which eligible items may be exported, reexported, or transferred (in-country) under a general authorization instead of a license. The names of the VEUs, as well as the date they were so designated, and their respective eligible destinations and items are identified in Supplement No. 7 to part 748 of the EAR. Under the terms described in that supplement, VEUs may obtain eligible items without an export license from BIS, in conformity with Section 748.15 of the EAR. Eligible items vary between VEUs, but may include commodities, software, and technology, except those controlled for missile technology or crime control reasons on the Commerce Control List (CCL) (part 774 of the EAR).

VEUs are reviewed and approved by the U.S. Government in accordance with the provisions of Section 748.15 and Supplement Nos. 8 and 9 to part 748 of the EAR. The End-User Review Committee (ERC), composed of representatives from the Departments of State, Defense, Energy, and Commerce, and other agencies, as appropriate, is responsible for administering the VEU program. BIS amended the EAR in a final rule published on June 19, 2007 (72 FR 33646) to create Authorization VEU.

Addition and Removals on the List of Validated End-User Authorizations in the PRC

Addition of Shanghai Huahong Grace Semiconductor Manufacturing Corporation, Ltd. to the list of Validated End-Users in the PRC and its “Eligible Destinations” and “Eligible Items (By ECCN)”

This final rule amends Supplement No. 7 to part 748 of the EAR to add Shanghai Huahong Grace Semiconductor Manufacturing Corporation, Ltd. (HHGrace) as a VEU, and to identify its eligible facilities and the items that may be exported, reexported or transferred (in-country) to HHGrace under Authorization VEU. The names and addresses of this newly-appointed VEU and its eligible end-users are as follows:

New Validated End-User

Shanghai Huahong Grace Semiconductor Manufacturing Corporation, Ltd.

Eligible Destinations

Shanghai Huahong Grace Semiconductor Manufacturing Corporation—HFab 2, 668 Guoshoujing Road, Zhangjiang Hi-Tech Park, Shanghai 201203 China.

Shanghai Huahong Grace Semiconductor Manufacturing Corporation—HFab 1, 1188 Chuanqiao Road, Pudong, Shanghai 201206 China.

Shanghai Huahong Grace Semiconductor Manufacturing Corporation—GFab1, 1399 Zuchongzhi Road, Zhangjiang Hi-Tech Park, Shanghai 201203 China.

Eligible Items That May Be Exported, Reexported or Transferred (in-country) to the Three Eligible Destinations Identified Under HHGrace's Validated End-User Authorization:

Eligible Items (By ECCN): 1C350.c.3, 1C350.d.7, 2B230, 2B350.d.2, 2B350.g.3, 2B350.i.4, 3B001.a.1, 3B001.b, 3B001.c, 3B001.e, 3B001.f, 3B001.h, 3C002, 3C004, 5B002, and 5E002 (limited to production technology for integrated circuits controlled by ECCNs 5A002 or 5A992 that have been successfully reviewed under the encryption review process specified in Sections 740.17(b)(2) or 740.17(b)(3) and 742.15 of the EAR).

Removal of Validated End-User Authorizations for Grace Semiconductor Manufacturing Corporation and Shanghai Huahong NEC Electronics Company, Ltd.

As a result of the merger of HHNEC and GSMC, and their dissolution as independent legal entities, and consistent with Section 748.15 of the EAR, BIS now amends Supplement No. 7 to part 748 of the EAR to remove GSMC and HHNEC as VEUs. Both entities' addresses will also be removed from Supplement No. 7 to part 748 of the EAR. As a result of this rule, neither GSMC nor HHNEC will be authorized to receive items through Authorization VEU. This amendment is not the result of activities of concern. Rather, as noted above, the removal of GSMC's and HHNEC's qualifications as VEUs is the result of the merger of the two companies and their corresponding dissolution as independent legal entities.

Revisions to an Existing Validated End-User Authorization in the PRC

Revisions to the List of Eligible Items for CSMC Technologies Corporation

In this rule, BIS amends Supplement No. 7 to part 748 of the EAR to amend CSMC Technologies Corporation's (CSMC) current list of eligible items. Specifically, BIS removes Export Control Classification Numbers (ECCNs) 3B001.c.1.a and 3B001.c.2.a from CSMC's list of eligible items that may be exported, reexported or transferred (in-country) to the company's eligible destinations. BIS is not making this change in response to activities of concern. Rather, BIS is making this change to reflect changes made to the Commerce Control List in a rule published on September 7, 2010 (75 FR 54271). That rule revised the control parameters for the anisotropic plasma dry etching equipment controlled under ECCN 3B001.c to align with changes made to the Wassenaar Arrangement's List of Dual-Use Goods and Technologies, as maintained and agreed to by the governments participating in the Wassenaar Arrangement on Export Controls for Conventional Arms and Dual-Use Goods and Technologies. BIS's September 2010 change to the CCL removed ECCNs 3B001.c.1.a and 3B001.c.2.a, and changed the classification of those items to EAR99. As EAR99 items do not generally require a license for export, reexport or transfer (in-country) to the PRC, these items should no longer be included under CSMC's list of eligible items.

Former List of Eligible Items:

1C350.c.3, 1C350.c.11, 2B230.a, 2B230.b, 2B350.f, 2B350.g, 2B350.h, 3B001.c.1.a, 3B001.c.2.a, 3B001.e, 3B001.h (except for multilayer masks with a phase shift layer designed to produce “space qualified” semiconductor devices), 3C002.a, and 3C004.

New List of Eligible Items:

1C350.c.3, 1C350.c.11, 2B230.a, 2B230.b, 2B350.f, 2B350.g, 2B350.h, 3B001.e, 3B001.h (except for multilayer masks with a phase shift layer designed to produce “space qualified” semiconductor devices), 3C002.a, and 3C004.

Modification of the Structure of Supplement No. 7 to Part 748

Finally, in this rule, BIS amends Supplement No. 7 to part 748 to modify its structure. BIS is modifying the Supplement to improve the display and readability of the list of VEUs and their respective eligible items and destinations.

The changes described in this rule are expected to further facilitate exports to civilian end-users in the PRC, and are expected to result in significant savings of time and resources for the VEU and its eligible facilities. Authorization VEU eliminates the burden on exporters and reexporters of preparing individual license applications, as exports, reexports and transfers (in-country) of the specified eligible items may now be made under general authorization instead of under individual licenses. With the addition of HHGrace as a VEU, exporters and reexporters can supply HHGrace much more quickly, thus enhancing the competitiveness of both the VEU and its suppliers of U.S-origin items.

To ensure appropriate facilitation of exports and reexports, on-site reviews of VEUs, including HHGrace, may be warranted pursuant to Section 748.15(f)(2) of the EAR and Section 7(iv) of Supplement No. 8 to part 748 of the EAR. If such a review is warranted, BIS will inform the PRC Ministry of Commerce.

Since August 21, 2001, the Export Administration Act (the Act) has been in lapse and the President, through Executive Order 13222 of August 17, 2001 (3 CFR, 2001 Comp., p. 783 (2002)), as amended by Executive Order 13637 of March 8, 2013, 78 FR 16129 (March 13, 2013), and as extended most recently by the Notice of August 15, 2012, 77 FR 49699 (August 16, 2012), has continued the EAR in effect under the International Emergency Economic Powers Act. BIS continues to carry out the provisions of the Act, as appropriate and to the extent permitted by law, pursuant to Executive Order 13222.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility. This rule has been determined to be not significant for purposes of Executive Order 12866.

2. This rule involves collections previously approved by the Office of Management and Budget (OMB) under Control Number 0694-0088, “Multi-Purpose Application,” which carries a burden hour estimate of 43.8 minutes to prepare and submit form BIS-748; and for recordkeeping, reporting and review requirements in connection with Authorization VEU, which carries an estimated burden of 30 minutes per submission. This rule is expected to result in a decrease in license applications submitted to BIS. Total burden hours associated with the Paperwork Reduction Act of 1995 (44 U.S.C. 3501 et seq.) (PRA) and OMB Control Number 0694-0088 are not expected to increase significantly as a result of this rule.

Notwithstanding any other provisions of law, no person is required to respond to, nor be subject to a penalty for failure to comply with a collection of information subject to the requirements of the PRA, unless that collection of information displays a currently valid OMB Control Number.

3. This rule does not contain policies with Federalism implications as that term is defined under Executive Order 13132.

4. Pursuant to the Administrative Procedure Act (APA), 5 U.S.C. 553(b)(B), BIS finds good cause to waive requirements that this rule be subject to notice and the opportunity for public comment because they are unnecessary. In determining whether to grant VEU designations, a committee of U.S. Government agencies evaluates information about and commitments made by candidate companies, the nature and terms of which are set forth in 15 CFR part 748, Supplement No. 8. The criteria for evaluation by the committee are set forth in 15 CFR 748.15(a)(2).

The information, commitments, and criteria for this extensive review were all established through the notice of proposed rulemaking and public comment process (71 FR 38313 (July 6, 2006) (proposed rule), and 72 FR 33646 (June 19, 2007) (final rule)). Given the similarities between the authorizations provided under the VEU program and export licenses (as discussed further below), the publication of this information does not establish new policy. In publishing this final rule, BIS merely updates the list of VEUs and their respective eligible items and destinations. These changes have been made within the established regulatory framework of the Authorization VEU program. Further, this rule does not abridge the rights of the public or eliminate the public's option to export under any of the forms of authorization set forth in the EAR.

Publication of this rule in other than final form is unnecessary because the authorizations granted in the rule are consistent with the authorizations granted to exporters for individual licenses (and amendments or revisions thereof), which do not undergo public review. In addition, as with license applications, VEU authorization applications contain confidential business information, which is necessary for the extensive review conducted by the U.S. Government in assessing such applications. This information is extensively reviewed according to the criteria for VEU authorizations, as set out in 15 CFR 748.15(a)(2). Additionally, just as the interagency End-User Review Committee reviews license applications, the authorizations granted under the VEU program involve interagency deliberation and result from review of public and non-public sources, including licensing data, and the measurement of such information against the VEU authorization criteria. Given the nature of the review, and in light of the parallels between the VEU application review process and the review of license applications, public comment on this authorization and subsequent amendments prior to publication is unnecessary. Moreover, because, as noted above, the criteria and process for authorizing and administering VEUs were developed with public comments, allowing additional public comment on this amendment to individual VEU authorizations, which was determined according to those criteria, is unnecessary.

Section 553(d) of the APA generally provides that rules may not take effect earlier than thirty (30) days after they are published in the Federal Register. BIS finds good cause to waive the 30-day delay in effectiveness under 5 U.S.C. 553(d)(3) because the delay would be contrary to the public interest. BIS is simply amending a VEU authorization by updating the “eligible items” of the named end-user, removing two currently authorized VEUs, and replacing those VEUs with the addition of a new end-user—the new company resulting from the merger of two existing VEUs. Delaying this action's effectiveness could cause confusion with the VEU status of the list of companies identified in this rule due to the changes made to that list. Accordingly, it is contrary to the public interest to delay this rule's effectiveness.

No other law requires that a notice of proposed rulemaking and an opportunity for public comment be given for this final rule. Because a notice of proposed rulemaking and an opportunity for public comment are not required under the APA or by any other law, the analytical requirements of the Regulatory Flexibility Act (5 U.S.C. 601 et seq.) are not applicable. As a result, no final regulatory flexibility analysis is required and none has been prepared.

List of Subjects in 15 CFR Part 748

Administrative practice and procedure, Exports, Reporting and recordkeeping requirements.

Dated: May 24, 2013.
Kevin J. Wolf,
Assistant Secretary for Export Administration .

Accordingly, part 748 of the EAR (15 CFR parts 730-774) is amended as follows:

PART 748—[AMENDED]

1. The authority citation for 15 CFR part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 15, 2012, 77 FR 49699 (August 16, 2012).

2. Revise Supplement No. 7 to part 748 to read as follows:

Supplement No. 7 to Part 748—Authorization Validated End-User (VEU): List of Validated End-Users, Respective Items Eligible for Export, Reexport and Transfer, and Eligible Destinations
Country | Validated end-user | Eligible items (by ECCN) | Eligible destination | Federal register citation
Nothing in this Supplement shall be deemed to supersede other provisions in the EAR, including but not limited to § 748.15(c).
China (People's Republic of) | Advanced Micro Devices China, Inc | 3D002, 3D003, 3E001 (limited to “technology” for items classified under 3C002 and 3C004 and “technology” for use during the International Technology Roadmap for Semiconductors (ITRS) process for items classified under ECCNs 3B001 and 3B002), 3E002 (limited to “technology” for use during the ITRS process for items classified under ECCNs 3B001 and 3B002), 3E003.e (limited to the “development” and “production” of integrated circuits for commercial applications), 4D001, 4D002 and 4E001 (limited to the “development” of products under ECCN 4A003) | AMD Technologies (China) Co., Ltd., No. 88, Su Tong Road, Suzhou, China 215021 Advanced Micro Devices (Shanghai) Co., Ltd., Buildings 46, 47, 48 & 49, River Front Harbor, Zhangjiang Hi-Tech Park, 1387 Zhangdong Rd., Pudong, Shanghai, China 201203 AMD Technology Development (Beijing) Co., Ltd., North and South Buildings, RaycomInfotech, Park Tower C, No. 2 Science Institute South Rd., Zhong Guan Cun, Haidian District, Beijing, China 100190 AMD Products (China) Co. Ltd., North and South Buildings, RaycomInfotech Park Tower C, No. 2 Science Institute South Rd., Zhong Guan Cun, Haidian District, Beijing, China 100190 | 75 FR 25763, 5/10/10. 76 FR 2802, 1/18/11. 78 FR 3319, 1/16/13.
| Applied Materials (China), Inc | These Items Authorized for those Applied Materials Destinations Identified by one asterisk (*): 2B006.b, 2B230, 2B350.g.3, 2B350.i, 3B001.a, 3B001.b, 3B001.c, 3B001.e, 3B001.f, 3C001, 3C002, 3D002 (limited to “software” specially designed for the “use” of stored program controlled items classified under ECCN 3B001) | * Applied Materials South East Asia Pte. Ltd., Shanghai Depot, c/o Shanghai Applied Materials Technical Service Center, No. 2667, Zuchongzhi Road, Shanghai, China 201203 * Applied Materials South East Asia Pte. Ltd., Beijing Depot, c/o Beijing Applied Materials Technical Service Center, No. 1 North Di Sheng Street, BDA, Beijing, China 100176 | 72 FR 59164, 10/19/07. 74 FR 19382, 4/29/09. 75 FR 27185, 5/14/10. 77 FR 10953, 2/24/12.
|  |  | *Applied Materials South East Asia Pte. Ltd., Wuxi Depot, c/o Sinotrans Jiangsu Fuchang Logistics Co., Ltd., 1 Xi Qin Road, Wuxi Export Processing Zone, Wuxi, Jiangsu, China 214028
|  |  | Applied Materials South East Asia Pte. Ltd., Wuhan Depot, c/o Wuhan Optics Valley Import & Export Co., Ltd., No. 101 Guanggu Road, East Lake High-Tec Development Zone, Wuhan, Hubei, China 430074
|  |  | Applied Materials (China), Inc., Shanghai Depot, No. 2667, Zuchongzhi Road, Shanghai, China 201203
|  |  | * Applied Materials (China), Inc., Beijing Depot, No. 1 North Di Sheng Street, BDA, Beijing, China 100176
|  | These Items Authorized for the Applied Materials Destination Identified by two asterisks (**): 2B006.b, 2B230, 2B350.g.3, 2B350.i, 3B001.a, 3B001.b, 3B001.c, 3B001.e, 3B001.f, 3C001, 3C002, 3D002 (limited to “software” specially designed for the “use” of stored program controlled items classified under ECCN 3B001), and 3E001 (limited to “technology” according to the General Technology Note for the “development” or “production” of items controlled by ECCN 3B001) | ** Applied Materials (Xi'an) Ltd., No. 28 Xin Xi Ave., Xi'an High Tech Park, Export Processing Zone, Xi'an, Shaanxi, China 710075
| Boeing Tianjin Composites Co. Ltd | 1B001.f, 1D001 (limited to “software” specially designed or modified for the “use” of equipment controlled by 1B001.f), 2B001.b.2 (limited to machine tools with accuracies no better than (i.e., not less than) 13 microns), 2D001 (limited to “software,” other than that controlled by 2D002, specially designed or modified for the “use” of equipment controlled by 2B001.b.2), and 2D002 (limited to “software” for electronic devices, even when residing in an electronic device or system, enabling such devices or systems to function as a “numerical control” unit, capable of coordinating simultaneously more than 4 axes for “contouring control” controlled by 2B001.b.2) | Boeing Tianjin Composites Co. Ltd., No. 4-388 Heibei Road, Tanggu Tianjin, China | 72 FR 59164, 10/19/07. 74 FR 19382, 4/29/09. 77FR 10953, 2/24/12. 77 FR 40258, 7/9/12.
| CSMC Technologies Corporation | 1C350.c.3, 1C350.c.11, 2B230.a, 2B230.b, 2B350.f, 2B350.g, 2B350.h, 3B001.e 3B001.h (except for multilayer masks with a phase shift layer designed to produce “space qualified” semiconductor devices), 3C002.a, and 3C004 | CSMC Technologies Fab 1 Co., Ltd., 14 Liangxi Road, Wuxi, Jiangsu 214061, China CSMC Technologies Fab 2 Co., Ltd., 8 Xinzhou Rd. Wuxi National New Hi-Tech Industrial Development Zone, Wuxi, Jiangsu 214028, China | 76 FR 2802, 1/18/11. 76 FR 37634, 6/28/11. 77 FR 10953, 2/24/12. 78 FR 23472, 4/19/13. 78 FR [INSERT PAGE NUMBER], 6/3/13.
| Lam Research Corporation | These Items Authorized for those Lam's Destinations Identified by a single asterisk (*): 2B230, 2B350.c, 2B350.d, 2B350.g, 2B350.h, 2B350.i, 3B001.c and 3B001.e (items classified under ECCNs 3B001.c and 3B001.e are limited to specially designed components and accessories), 3D001 (limited to “software” (excluding source code) specially designed for the “development” or “production” of equipment controlled by ECCN 3B001), 3D002 (limited to “software” (excluding source code) specially designed for the “use” of equipment controlled by ECCN 3B001), and 3E001 (limited to “technology” according to the General Technology Note for the “development” of equipment controlled by ECCN 3B001) | * Lam Research International Sarl (Lam Shanghai Warehouse), c/o HMG Supply Chain (Shanghai) Co., Ltd., No. 3869, Longdong Avenue, Pudong New District, Shanghai, China 201203 *Lam Research International Sarl (Lam Shanghai Warehouse; WGQ Bonded Warehouse), c/o HMG Supply Chain (Shanghai) Co., Ltd., No. 55, Fei la Road, Waigaoqiao Free Trade Zone, Pudong New Area, Shanghai, China 200131 * Lam Research International Sarl (Lam Beijing Warehouse), c/o Beijing Lam Electronics Tech Center, No. 8 Building, No. 1, Disheng North Street, Beijing Economic & Technological Development Area, Beijing, China 100176 * Lam Research International Sarl (Wuxi EPZ Bonded Warehouse), c/o HMG WHL Logistic (Wuxi) Co., Ltd., 1st Fl, Area 4, No. 1, Plot J3, No. 5 Gaolang East Road, Export Processing Zone, Wuxi, China 214028 | 75 FR 62462, 10/12/10. 77 FR 10953, 2/24/12. 78 FR 3319, 1/16/13.
|  |  | * Lam Research International Sarl (Lam Beijing Warehouse), c/o HMG Hi-tech Logistics (Beijing) Co., Ltd., Building 3, No. 9 Ke Chuang Er Street, Beijing Economic Technological Development Area, Beijing, China 100176
|  |  | * Lam Research International Sarl (Wuhan TSS), c/o HMG Wuhan Logistic Co., Ltd., 1st-2nd Floor, Area B, No. 5 Building, Hua Shi Yuan Er Road, East-lake Hi-Tech Development Zone, Wuhan, Hubei Province, China 430223
|  | These Items Authorized for those Lam's Destinations Identified by two asterisks (**): 2B230, 2B350.c, 2B350.d, 2B350.g, 2B350.h, 2B350.i, 3B001.c and 3B001.e (items classified under ECCNs 3B001.c and 3B001.e are limited to specially designed components and accessories), 3D001 (limited to “software” (excluding source code) specially designed for the “development” or “production” of equipment controlled by ECCN 3B001), 3D002 (limited to “software” (excluding source code) specially designed for the “use” of equipment controlled by ECCN 3B001), and 3E001 (limited to “technology” according to the General Technology Note for the “development” or “production” (limited to those stages that support integration, assembly (mounting), inspection, testing, and quality assurance) of equipment controlled by ECCN 3B001) | ** Lam Research Service Co., Ltd., 1st Floor, Area C, Hua Hong Science & Technology Park, 177 Bi Bo Road, Zhangjiang Hi-Tech Park, Pudong, Shanghai, China 201203 ** Lam Research (Shanghai) Co., Ltd., No. 1 Jilong Rd., Room 424-2, Waigaoqiao Free Trade Zone, Shanghai, China 200131 ** Lam Research Service Co., Ltd. (Beijing Branch), Rm 1010, Zhaolin Building, No. 15 Rong Hua Zhong Road, Beijing Economic & Technological Development Area, Beijing, China 100176 ** Lam Research Service Co., Ltd., Wuxi Representative Office, Room 302, Building 6, Singapore International Park, No. 89 Xing Chuang Si Road, Wuxi New District, Wuxi, Jiangsu, China 214028 **Lam Research Service Co., Ltd., Wuhan Representative Office, Room 302, Guanggu Software Park Building E4, No. 1 Guanshan Road, Donghu Development Zone, Wuhan, Hubei Province, China 430074 ** Lam Research Semiconductor (Suzhou) Co., Ltd. (Suzhou), A Division of Lam Research International Sarl, A-2 Building, Export Processing Zone, Suzhou New District, Jiangsu Province, China 215151
| Semiconductor Manufacturing International Corporation | 1C350.c.3, 1C350.d.7, 2B006.b.1, 2B230, 2B350.d.2, 2B350.g.3, 2B350.i.3, 3B001.a, 3B001.b, 3B001.c, 3B001.e, 3B001.f, 3C001, 3C002, 3C004, 5B002, and 5E002 (limited to “technology” according to the General Technology Note for the “production” of integrated circuits controlled by ECCN 5A002 that have been classified by BIS as eligible for License Exception ENC under paragraph (b)(2) or (b)(3) of section 740.17 of the EAR, or classified by BIS as a mass market item under paragraph (b)(3) of section 742.15 of the EAR) | Semiconductor Manufacturing International (Shanghai) Corporation, 18 Zhang Jiang Rd., Pudong New Area, Shanghai, China 201203 Semiconductor Manufacturing International (Tianjin) Corporation, 19 Xing Hua Avenue, Xi Qing Economic Development Area, Tianjin, China 300385 Semiconductor Manufacturing International (Beijing) Corporation, No. 18 Wen Chang Road, Beijing Economic-Technological Development Area, Beijing, China 100176 | 72 FR 59164, 10/19/07. 75 FR 67029, 11/1/10. 77 FR 10953, 2/24/12.
| Shanghai Huahong Grace Semiconductor Manufacturing Corporation | 1C350.c.3, 1C350.d.7, 2B230, 2B350.d.2, 2B350.g.3, 2B350.i.4, 3B001.a.1, 3B001.b, 3B001.c, 3B001.e, 3B001.f, 3B001.h, 3C002, 3C004, 5B002, and 5E002 (limited to production technology for integrated circuits controlled by ECCNs 5A002 or 5A992 that have been successfully reviewed under the encryption review process specified in Sections 740.17(b)(2) or 740.17(b)(3) and 742.15 of the EAR) | Shanghai Huahong Grace Semiconductor Manufacturing Corporation—HFab 2, 668 Guoshoujing Road, Zhangjiang Hi-Tech Park, Shanghai 201203 China Shanghai Huahong Grace Semiconductor Manufacturing Corporation—HFab 1, 1188 Chuanqiao Road, Pudong, Shanghai 201206 China Shanghai Huahong Grace Semiconductor Manufacturing Corporation—GFab1, 1399 Zuchongzhi Road, Zhangjiang Hi-Tech Park, Shanghai 201203 China | 78 FR [INSERT PAGE NUMBER], 6/3/13.
| SK hynix Semiconductor (China) Ltd | 3B001.a, 3B001.b, 3B001.c, 3B001.e, and 3B001.f | SK hynix Semiconductor (China) Ltd., Lot K7/K7-1, Export Processing Zone, Wuxi, Jiangsu, China 214028 | 75 FR 62462, 10/12/10. 77 FR 40258, 7/9/12. 78 FR 3319, 1/16/13.
| SK hynix Semiconductor (Wuxi) Ltd | 3B001.a, 3B001.b, 3B001.c, 3B001.e, and 3B001.f | SK hynix Semiconductor (Wuxi) Ltd., Lot K7/K7-1, Export Processing Zone, Wuxi, Jiangsu, China 214028 | 75 FR 62462, 10/12/10. 77 FR 40258, 7/9/12. 78 FR 3319, 1/16/13.
India | GE India Industrial Pvt Ltd. | 1C002.a.1, 1C002.a.2, 1C002.b.1.a, 1C002.b.1.b, 1E001, 2E003.f, 9E003.a.1, 9E003.a.2, 9E003.a.4, 9E003.a.5, 9E003.a.6, 9E003.a.8, and 9E003.c | GE India Technology Centre Private Limited (GEITC), No. 122, EPIP, Phase II, Hoodi Village, Whitefield Road, Bangalore 560066, Karnataka, India Bangalore Engineering Center (BEC), c/o GE India Technology Centre Private Limited (GEITC), No. 122, EPIP, Phase II, Hoodi Village, Whitefield Road, Bangalore 560066, Karnataka, India | 74 FR 31620, 7/2/09. 74 FR 68147, 12/23/09. 77 FR 10953, 2/24/12.

[FR Doc. 2013-13076 Filed 5-31-13; 8:45 am]

BILLING CODE 3510-33-P